DEPARTMENT OF COMMERCE

International Trade Administration

Report to Congress: Retrospective Versus Prospective Antidumping and Countervailing Duty Systems; Request for Comment and Notice of a Public Hearing

AGENCY: Import Administration, International Trade Administration, Department of Commerce.

Background: In the conference report accompanying the 2010 Consolidated Appropriations Act, Public Law: 111-117, the conferees directed the Secretary of Commerce to work with the Secretaries of the Departments of Homeland Security and the Treasury to conduct an analysis of the relative advantages and disadvantages of prospective and retrospective antidumping and countervailing duty systems. The report is currently scheduled to be transmitted to Congress on June 14, 2010. As part of its analysis, the conferees requested that the Department of Commerce (the Department) address the extent to which each type of system would likely achieve the goals of: (1) Remedying injurious dumping or subsidized exports to the United States; (2) minimizing uncollected duties; (3) reducing incentives and opportunities for importers to evade antidumping and countervailing duties; (4) effectively targeting high-risk importers; (5) addressing the impact of retrospective rate increases on U.S. importers and their employees; and (6) creating minimal administrative burden.

To help in its analysis, the Department is inviting the public to comment on the issue and the specific points raised by the conferees as well as identify additional issues or considerations that it believes are deserving of the Department's attention as it prepares its report. The Department is also notifying the public that it will hold a public hearing on April 27, 2010.

Date for Submitting Comments: The Department requests that comments be submitted by 5 p.m., April 20, 2010. Comments should be limited to no more than 25 pages. Comments may be submitted electronically or in writing. Electronic comments should be submitted to webmaster-support@ita.doc.gov. If you submit comments electronically, you do not need to also submit comments in writing. People wishing to comment in writing should file, by the date specified above, a signed original and four copies of each set of comments at the address listed below. The Department will not accept nor consider comments accompanied by a request that a part or all of the material be treated confidentially because of its business proprietary nature or for any other reason.

All comments will be available for public inspection at Import Administration's Central Records Unit, Room 1117, between the hours of 8:30 a.m. and 5 p.m. on business days. In addition, all comments will be made available to the public in Portable Document Format (PDF) on the Internet at the Import Administration Web site at the following address: http://www.trade.gov/ia/. To the extent possible, all comments will be posted within 48 hours. Any questions concerning file formatting, document conversion, access on the Internet, or other electronic filing issues should be addressed to Andrew Lee Beller, Import Administration Webmaster, at (202) 482-0866, e-mail address: webmaster-support@ita.doc.gov.

Hearing Date: The hearing will be held on April 27, 2010 starting at 9:30 a.m. in the auditorium at the Department of Commerce, 14th Street and Constitution Avenue, NW., Washington DC.

Hearing Participation: The hearing is open to the public. There are no prerequisites or conditions on participating at the hearing. All are welcome to speak at the hearing subject to the guidelines outlined in this notice. Those wishing to speak at the hearing must notify the Department no later than April 13, 2010. The request can be sent by e-mail to webmaster-support@ita.doc.gov or in writing to the address below. Individual presentations will be limited to five minutes to allow for possible questions from the Chair and the panel. Written comments, though strongly encouraged, are not required for those making presentations within the five minute time limit. Anyone requiring additional time for their presentation must seek an extension of the time limit at the time of their notification to the Department. Additional time may be granted as time and the number of participants permits. Also, please be aware that foreign nationals wishing to attend or participate in the hearing may be required to provide certain identification information to the Department by April 23, 2010 in order to gain access to the building. For further information, please contact Kelly Parkhill at (202) 482-3791.

ADDRESSES: Comments may be submitted electronically or in writing. Electronic comments should be submitted to webmaster-support@ita.doc.gov. If you submit comments electronically, you do not need to submit comments in writing. People wishing to comment in writing should file a signed original and four copies of each set of comments by 5 p.m., April 20, 2010. Such comments should be addressed to Ronald K. Lorentzen, Deputy Assistant Secretary for Import Administration, Room 1870, Department of Commerce, 14th Street and Constitution Ave., NW., Washington, DC 20230.

FOR FURTHER INFORMATION CONTACT: Kelly Parkhill at (202) 482-3791.

New Reporting Requirements: There are no new paperwork or reporting requirements as a result of the action. In addition, all responses to the Department's Federal Register notice requests for information, including this request, are strictly voluntary.

Dated: March 26, 2010.
Ronald K. Lorentzen,
Deputy Assistant Secretary for Import Administration.

[FR Doc. 2010-7217 Filed 3-30-10; 8:45 am]

BILLING CODE 3510-DS-P